DEPARTMENT OF ENERGY

Federal Energy Regulatory Commission

[Docket No. RP99-507-004]

El Paso Natural Gas Company; Notice of Compliance Filing

November 15, 2000.

Take notice that on November 9, 2000, El Paso Natural Gas Company (El Paso) tendered its filing in compliance with ordering paragraphs (B) and (C) of the Commission's order issued October 25, 2000 at Docket No. RP99-507-000, et al.

Any person desiring to protest said filing should file a protest with the Federal Energy Regulatory Commission, 888 First Street, N.E., Washington, D.C. 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-29697 Filed 11-20-00; 8:45 am]

BILLING CODE 6717-01-M